FEDERAL COMMUNICATIONS COMMISSION

[WC Docket Nos. 17-108, 17-287, 11-42; DA 20-331; FRS 16607]

Telecommunications; Common Carriers; Internet

AGENCY: Federal Communications Commission.

ACTION: Notice.

SUMMARY: The Wireline Competition Bureau (Bureau) of the Federal Communications Commission grants a 21-day extension of time for filing comments and reply comments on the Public Notice seeking to refresh the record in the Restoring Internet Freedom and Lifeline proceedings.

DATES: Comments are due on or before April 20, 2020, and reply comments are due on or before May 20, 2020.

ADDRESSES: You may submit comments, identified by WC Docket Nos. 17-108, 17-287, and 11-42, by any of the following methods:

• Federal Communications Commission's Website: https://www.fcc.gov/ecfs/. Follow the instructions for submitting comments.

• Mail: Parties who choose to file by paper must file an original and one copy of each filing. If more than one docket or rulemaking number appears in the caption of this proceeding, filers must submit two additional copies for each additional docket or rulemaking number. Filings can be sent by hand or messenger delivery, by commercial overnight courier, or by first-class or overnight U.S. Postal Service mail. All filings must be addressed to the Commission's Secretary, Office of the Secretary, Federal Communications Commission. All hand-delivered or messenger-delivered paper filings for the Commission's Secretary must be delivered to FCC Headquarters at 445 12th St. SW, Room TW-A325, Washington, DC 20554. The filing hours are 8:00 a.m. to 7:00 p.m. All hand deliveries must be held together with rubber bands or fasteners. Any envelopes and boxes must be disposed of before entering the building. Commercial overnight mail (other than U.S. Postal Service Express Mail and Priority Mail) must be sent to 9050 Junction Drive, Annapolis Junction, MD 20701. U.S. Postal Service first-class, Express, and Priority mail must be addressed to 445 12th Street SW, Washington, DC 20554.

• People With Disabilities: To request materials in accessible formats for people with disabilities (braille, large print, electronic files, audio format), send an email to fcc504@fcc.gov or call the Consumer & Governmental Affairs Bureau at 202-418-0530 (voice), 202-418-0432 (tty).

For detailed instructions for submitting comments and additional information on the rulemaking process, see the SUPPLEMENTARY INFORMATION section of this document.

FOR FURTHER INFORMATION CONTACT: Annick Banoun, Competition Policy Division, Wireline Competition Bureau, at (202) 418-1521 or annick.banoun@fcc.gov.

SUPPLEMENTARY INFORMATION: On February 19, 2020, the Bureau released a Public Notice seeking to refresh the record in the Restoring Internet Freedom and Lifeline proceedings in light of the D.C. Circuit's decision in Mozilla Corp. v. FCC, with filing deadlines of March 30, 2020 for comments and April 29, 2020 for reply comments. (85 FR 12555 (Mar. 3, 2020)) Among other things, the Public Notice sought to refresh the record on how the changes adopted in the Restoring internet Freedom Order might affect public safety.

On March 11, 2020, The Benton Institute for Broadband & Society, California Public Utilities Commission, County of Santa Clara, City of Los Angeles, Access Now, Center for Democracy and Technology, Common Cause, Electronic Frontier Foundation, INCOMPAS, National Hispanic Media Coalition, Next Century Cities, Open Technology Institute, and Public Knowledge (Requesters) filed a motion to extend the comment and reply comment deadlines by 30 days each, to April 29, 2020 and May 29, 2020, respectively. Requesters assert that, among other things, there is a “critical need for an extension” to enable state, county, and municipal governments to be able to respond adequately to the issues raised in the Public Notice relating to how the Commission's action affects public safety. NASUCA expressed support for the Extension Request.

As set forth in section 1.46 of the Commission's rules, it is the policy of the Commission that extensions of time shall not be routinely granted. The deadlines stated in the Public Notice provided interested parties more than a month to submit comments, and an additional month for reply comments. Nevertheless, we find that Requesters have shown good cause for an extension of the comment cycle, and that the public interest will be served by extending the comment and reply deadlines. Requesters assert that staff, officials, and first responders who possess knowledge relevant to the public safety-related questions raised in the Public Notice are presently occupied with preparing for and conducting emergency responses to the COVID-19 public safety crisis. Under such circumstances, we agree that an extension of three weeks for each deadline is warranted. At the same time, we agree with Requesters that “the Commission has a duty to conduct its remand proceedings in an expeditious manner,” and we find that this consideration counsels for a shorter extension than the full 30 days requested.

These proceedings shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b). In proceedings governed by rule 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Pursuant to sections 1.415 and 1.419 of the Commission's rules, 47 CFR 1.415, 1.419, interested parties may file comments and reply comments on or before the dates indicated on the first page of this document. Comments may be filed using the Commission's Electronic Comment Filing System (ECFS). See Electronic Filing of Documents in Rulemaking Proceedings, 63 FR 24121 (1998).

Electronic Filers: Comments may be filed electronically using the internet by accessing the ECFS: http://apps.fcc.gov/ecfs/.

Paper Filers: Parties who choose to file by paper must file an original and one copy of each filing. If more than one docket or rulemaking number appears in the caption of this proceeding, filers must submit two additional copies for each additional docket or rulemaking number.

Filings can be sent by hand or messenger delivery, by commercial overnight courier, or by first-class or overnight U.S. Postal Service mail. All filings must be addressed to the Commission's Secretary, Office of the Secretary, Federal Communications Commission.

Commercial overnight mail (other than U.S. Postal Service Express Mail and Priority Mail) must be sent to 9050 Junction Drive, Annapolis Junction, MD 20701.

U.S. Postal Service first-class, Express, and Priority mail must be addressed to 445 12th Street SW, Washington, DC 20554.

Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, DA 20-304 (March 19, 2020). https://www.fcc.gov/document/fcc-closes-headquarters-open-window-and-changes-hand-delivery-policy.

During the time the Commission's building is closed to the general public and until further notice, if more than one docket or rulemaking number appears in the caption of a proceeding, paper filers need not submit two additional copies for each additional docket or rulemaking number; an original and one copy are sufficient.

People With Disabilities: To request materials in accessible formats for people with disabilities (braille, large print, electronic files, audio format), send an email to fcc504@fcc.gov or call the Consumer & Governmental Affairs Bureau at 202-418-0530 (voice), 202-418-0432 (tty).

Accordingly, it is ordered, pursuant to sections 0.204, 0.291, and 1.46 of the Commission's rules, 47 CFR 0.204, 0.291, 1.46, that the Motion for Extension of Time filed by Requestors on March 11, 2020 is granted to the extent described herein.

It is also ordered that the date for filing comments on the Public Notice is extended to April 20, 2020, and the date for filing reply comments is extended to May 20, 2020.

Federal Communications Commission.
Daniel Kahn,
Associate Chief, Wireline Competition Bureau.

[FR Doc. 2020-07586 Filed 4-9-20; 8:45 am]

BILLING CODE 6712-01-P